DEPARTMENT OF COMMERCE

National Oceanic and Atmospheric Administration

50 CFR Part 680

[I.D. 012607D]

RIN 0648-AV19

Fisheries of the Exclusive Economic Zone Off Alaska; Crab Rationalization Program

AGENCY: National Marine Fisheries Service (NMFS), National Oceanic and Atmospheric Administration (NOAA), Commerce.

ACTION: Availability of an amendment to a fishery management plan; request for comments.

SUMMARY: On January 12, 2007, the President signed the Magnuson-Stevens Fishery Conservation and Management Reauthorization Act of 2006, which requires the Secretary of Commerce (Secretary), not later than 90 days after the date of enactment of that Act, to amend the Fishery Management Plan for the Bering Sea/Aleutian Islands King and Tanner Crabs (FMP) to authorize conversion of catcher vessel owner quota shares and processor quota shares to newly created North Region catcher/processor owner quota shares. Proposed Amendment 25 to the FMP would satisfy this requirement. This action is intended to promote the goals and objectives of the Magnuson-Stevens Fishery Conservation and Management Act (Magnuson-Stevens Act), the FMP, and other applicable laws.

DATES: Comments on the amendment must be submitted on or before April 6, 2007.

ADDRESSES: Send comments to Sue Salveson, Assistant Regional Administrator, Sustainable Fisheries Division, Alaska Region, NMFS, Attn: Ellen Sebastian. Comments may be submitted by:

• Mail: P.O. Box 21668, Juneau, AK 99802;

• Hand delivery to the Federal Building: 709 West 9th Street, Room 420A, Juneau, AK;

• Fax: 907-586-7557; or

• E-mail: 0648-AV19-NOA-KTC25@noaa.gov. Include in the subject line of the e-mail the following document identifier: KTC 25 NOA. E-mail comments, with or without attachments, are limited to 5 megabytes.

• Webform at the Federal eRulemaking Portal: http://www.regulations.gov. Follow the instructions at that site for submitting comments.

Copies of Amendment 25 and the Environmental Impact Statement (EIS) for the Crab Rationalization Program may be obtained from the NMFS Alaska Region at the address above or from the Alaska Region website at http://www.fakr.noaa.gov/sustainablefisheries/crab/eis/default.htm.

FOR FURTHER INFORMATION CONTACT: Gretchen Harrington, 907-586-7228 or gretchen.harrington@noaa.gov.

SUPPLEMENTARY INFORMATION: The Magnuson-Stevens Act requires that NMFS publish a notice in the Federal Register announcing that the FMP amendment is available for public review and comment during the 60-day period beginning on the date the notice is published.

On January 12, 2007, the President signed the Magnuson-Stevens Fishery Conservation and Management Reauthorization Act of 2006 (Public Law 109-479), which added a new requirement in section 122(a) for the Secretary, not later than 90 days after the date of enactment of that Act, to amend the FMP to authorize conversion of catcher vessel owner quota shares (CVO QS) and processor quota shares (PQS) to catcher/processor owner quota shares (CPO QS). Proposed Amendment 25 to the FMP, if approved, would satisfy this requirement. The Secretary must approve this FMP amendment by April 12, 2007, to comply with Public Law 109-479.

Crab Rationalization Program (Program)

In implementing the Program in 2005, NMFS initially issued PQS, CVO QS, and CPO QS to eligible applicants. In 2006, NMFS initially issued PQS to the Blue Dutch, LLC, under the requirements of section 417(a) of the Coast Guard and Maritime Transportation Act of 2006 (Coast Guard Act, Public Law 109-241). NMFS may initially issue additional quota share pursuant to ongoing appeal adjudications.

CVO QS represents an exclusive but revocable privilege that provides the holder with an annual allocation to harvest a specific percentage of the total allowable catch (TAC) from a fishery. The annual allocations of TACs, in pounds, are referred to as individual fishing quotas (IFQs). Under the regional requirement, CVO QS is designated by landing region and harvests are required to be delivered either in the North or South region.

PQS represents an exclusive but revocable privilege to receive deliveries of a specific portion of the annual TAC from a fishery. An annual allocation of PQS is referred to as IPQ and expressed in pounds of crab. PQS is regionally designated for processing in the North or South region.

CPO QS represents an exclusive but revocable privilege to harvest a percentage of the TAC and process that crab onboard. Under the Program, CPO QSs do not have regional designations.

The regional designation of CVO QS and PQS preserves the historic geographic distribution of landings in the fisheries. Two regional designations were created for the snow crab (Chionoecetes opilio) and Bristol Bay red king crab (Paralithodes camtschaticus) fisheries. The North Region consists of all areas in the Bering Sea north of 56°20′ N latitude. The South Region is all other areas. Crab harvested with regionally designated CVO QS is required to be delivered to a processor in the designated region. Likewise, a processor with regionally designated PQS is required to accept delivery of and process crab in the designated region.

Amendment 25

Proposed Amendment 25 to the FMP would comply with Public Law 109-479 by amending the FMP to include an additional provision to the Program. Amendment 25 would authorize an eligible entity and its commonly owned affiliates to combine North PQS and North CVO QS and exchange these shares for newly created North Region CPO QS (North CPO QS). Allowing entities to convert PQS and CVO QS to North CPO QS would allow them to harvest and process crab onboard a catcher processor. Amendment 25 would reduce each eligible entity's operating costs associated with purchasing crab, processing crab on land or in a stationary floater processor, and complying with the Program's arbitration system.

Amendment 25 would authorize, on an annual basis, two types of quota share conversions and defines the entities eligible to make those conversions. First, an eligible entity holding PQS, along with its commonly owned affiliates, could combine any North CVO QS with its North PQS and exchange them for North CPO QS on an annual basis. Entities could do this under the following two conditions: (1) if NMFS initially issued the entity both CPO QS and PQS under the Program, and that PQS, in combination with the PQS of its commonly owned affiliates, is less than 7 percent of the total PQS pool for that year; and (2) if NMFS initially issued the entity CPO QS under the Program and PQS under the Coast Guard Act. An eligible entity would be limited to converting only the PQS that it, along with its commonly owned affiliates, was initially issued by NMFS.

Second, an eligible entity holding CVO QS, along with its commonly owned affiliates, could combine any North PQS with its North CVO QS and exchange them for North CPO QS on an annual basis. The only entity that could do this would be an entity to which NMFS initially issued CPO QS and PQS under the Program, and that PQS, in combination with the PQS of its commonly owned affiliates, is more than 7 percent of the total PQS pool for that year. This eligible entity would be limited to converting only the CVO QS that it, along with its commonly owned affiliates, was initially issued by NMFS.

Eligible entities would receive one unit of North CPO QS in exchange for one unit of North CVO QS and 0.9 units of North PQS. The amount of North CPO QS issued to each entity could not exceed 1 million pounds during any calendar year.

According to the NMFS Official Record, three individual entities are eligible for these new provisions. Yardarm Knot, LLC, and its commonly owned affiliates, and Blue Dutch, LLC, and its commonly owned affiliates, would be eligible for the first type of conversion. Trident Seafoods, and its commonly owned affiliates, would be eligible for the second type of conversion. NMFS can not predict the annual amount of North CPO QS that would be annually issued because the participants would annually elect to exercise this provision and need not request conversion of all CVO QS and PQS held.

While the statutory language does not specifically define which fisheries are subject to this provision, North CPO QS would only be created for the snow crab and Bristol Bay red king crab fisheries, because these were the only fisheries for which the eligible entities were initially issued North PQS and North CVO QS.

Sections 122(b) and (c) of Public Law 109-479 include additional requirements for fees and off-loading for the newly created North CPO QS; however, the statute does not require these requirements to be part of this FMP amendment. Public Law 109-479 requires the holder of North CPO QS to pay a fee of 5 percent of the ex-vessel value of the crab harvested with those shares to any local governmental entities in the North Region, if the PQS used to produce the North CPO QS were originally derived from the processing activities that occurred in a community under the jurisdiction of those local governmental entities. The State of Alaska may collect from the holder of the North CPO QS a fee of 1 percent of the ex-vessel value of the crab harvested with those shares. Additionally, crab harvested with North CPO QS shall be off-loaded in those communities receiving the local governmental entities fee revenue.

Section 122(d) also provides that, as part of its periodic review of the Program, the North Pacific Fishery Management Council may review the effects of allowing the conversion to North CPO QS on communities in the North Region. Under this section, if the Council determines that Amendment 25 adversely affects the communities, the Council may recommend to the Secretary, and the Secretary may approve, changes to the Program necessary to mitigate those adverse effects.

Section 122(e) requires an additional FMP amendment and rule making to modify the use caps for processing North Region snow crab. Under this section, custom processing arrangements do not count against any use cap for the processing of snow crab in the North Region by a shore-based crab processor's. NMFS issued an enforcement policy on January 19, 2007, that provides guidance to the industry on NMFS' enforcement and interpretation of this section, which is effective until superseded by rule making.

An EIS was prepared for the Program that describes the management background, the purpose and need for the Program, the management alternatives, and the environmental, social, and economic impacts (see ADDRESSES). The EIS contains as appendices the Regulatory Impact Review/Initial Regulatory Flexibility Analysis and the Social Impact Assessment prepared for the Program. With Amendment 25, NMFS is continuing to implement the Program.

Public comments are being solicited on proposed Amendment 25 through the end of the comment period (see DATES). All comments on the amendment received by that date will be considered in the approval/disapproval decision. Comments received after that date will not be considered. To be considered, comments must be received—not just postmarked or otherwise transmitted—by the close of business on the last day of the comment period. NMFS is developing a separate proposed rule notice to implement Amendment 25. NMFS anticipates implementing Amendment 25 and Public Law 109-479 for the 2007/2008 crab fisheries.

Authority: 16 U.S.C. 1801 et seq.; Pub. L. 109-479, 120 Stat. 3575.

Dated: January 30, 2007.
James P. Burgess,
Acting Director, Office of Sustainable Fisheries, National Marine Fisheries Service.

[FR Doc. E7-1804 Filed 2-2-07; 8:45 am]

BILLING CODE 3510-22-S